DEPARTMENT OF TRANSPORTATION

Federal Motor Carrier Safety Administration

[Docket No. FMCSA-2015-0054]

Qualification of Drivers; Exemption Applications; Vision

AGENCY: Federal Motor Carrier Safety Administration (FMCSA), DOT.

ACTION: Notice of denials.

SUMMARY: FMCSA announces its denial of 120 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 120 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following applicant, Gregory J. Karkos, did not have sufficient driving experience over the past three years under normal highway operating conditions.

The following 21 applicants had no experience operating a CMV:

Paul M. A. Bobick

Ethan W. Boze

Russell B. Cochran

Harold L. Coleman

Logan B. Dix

Terry L. Dockall

Charles M. Edmonds

Pedro T. Espinal

Ronald A. Francis

William R. Hand

Kristopher M. Heitmeier

Alan L. Kershisnik

Nuru D. Mehammed

Kevin R. Murphy

Eduardo Ortiz

Christopher E. Robles

Jonathan R. Rogers

Joseph D. Sirlin

Maxwell W. Tanner

Charles Wheeler

Haitham N. Zegar

The following 15 applicants did not have three years of experience driving a CMV on public highways with their vision deficiencies:

Clairmont Boston

John R. Boudreaux

James A. Bullock, Jr.

James L. Crain

James W. Faber

Joseph F. Giacometto

Elmer G. Godwin, Jr.

Randall L. Hall

Alexander D. Harry

Clyde M. Lange III

Aveland E. Munroe

Jorge M. Rios

Canute O. Robinson

James R. Sadlow

Thomas A. Schwarz

The following nine applicants did not have three years of recent experience driving a CMV with the vision deficiency:

Kyle J. Bailey

Charles W. Bradley

Jeremy W. Culberson

Albert Goodman, Jr.

Jimmy R. Holman

Ronald L. Irwin

Wayne S. Peisert

Donald L. Pons

Dawn K. Waybill

The following two applicants did not have sufficient driving experience during the past three years under normal highway operating conditions:

Michael Garnys

Edward P. Schrader II

The following applicant, Marsden A. Cummings, was unable to obtain a statement from an optometrist or ophthalmologist stating that he was able to operate a commercial vehicle from a vision standpoint.

The following 19 applicants were denied for multiple reasons:

Shawn B. Blanton

Lorena G. Booker

Gaylon W. Bumpus

Teddy E. Cole

David R. Ford

Joseph R. Fritz

Alan G. Hicks

Tony B. Johnson

Raymond W. Lytle, Sr.

William E. Montanari, Sr.

Donald H. Nelson

Delbert L. Priddle

James D. Simental

Dennis L. Smith

Patrick L. Stansell

Dustin L. Stone

Barron A. Story

Samuel M. Washington

Gary E. Williams

The following two applicants did not have stable vision for the entire three-year period:

Jeffrey L. Jones

Carl A. Shaner

The following 21 applicants met the current federal vision standards. Exemptions are not required for applicants who meet the current regulations for vision:

David D. Bond

Nicholas J. Carbone

Harold C. Darden

Douglas J. Davis

Whitney R. Everhart

Craig T. Gerroll

Darren E. Giles

Sukmindier S. Grewal

Derek Griffin

Bobby L. Hunter

Dennis Johnson

Dennis D. Kahle

Enoc D. Lopez

Michael D. Minchew

Armont S. Nash

Osvaldo Negron

Charles E. Rhodes

Michael C. Schaffer Jr.

Brian D. Sharp

Yancy D. Stone

Charles R. Wulf

The following 24 applicants were denied because they will not be driving interstate, interstate commerce, or are not required to carry a DOT medical card:

Scott W. Andreason

Michael J. Benedict

Ronald R. Campbell

Richard A. Cornejo

Willie J. Evans Jr.

Domenic L. Germano

Robert L. Hodge

John L. Johnson

Sr.

Raymond Long

Evaristo Z. Martinez

James C. Mcnee

Jere L. Messersmith

Michael D. Meyer

Jeffrey R. Miller

Anna M. Miller

George S. Moore

Steven J. Mulligan

Robert Noonan

Myron E. Olson

Jerry W. Rufsvold

Elmer F. Silcott

Thomas E. Smith

Anthony E. Smith

Manuel Ulloa-Mendez

Finally, the following five applicants perform transportation for the federal government, state, or any political sub-division of the state.

Michael W. Henderson

Nicholas J. Marchesani

Christopher M. Pannelli

Anthony J. Santi

Todd W. Woronik

Issued on: July 7, 2015.
Larry W. Minor,
Associate Administrator for Policy.

[FR Doc. 2015-17329 Filed 7-14-15; 8:45 am]

BILLING CODE 4910-EX-P